DEPARTMENT OF VETERANS AFFAIRS

Announcement for Public Meeting Regarding Health Care Access Standards for Veteran Community Care Program

AGENCY: Department of Veterans Affairs.

ACTION: Announcement of public meeting.

SUMMARY: The Department of Veterans Affairs (VA) is holding a public meeting to seek information from pertinent entities to inform VA's review of access standards for furnishing hospital care, medical services, and extended care services to covered veterans for purposes of the Veterans Community Care Program. Specifically, VA requests information, including but not limited to the following: Information regarding health plans on the use of access standards for the design of health plan provider networks; referrals from network providers to out-of-network providers; the appeals process for exemptions from benefit limits to out-of-network providers; and the measurement of performance against Federal or state regulatory standards. Further, VA is requesting input on veterans' experience with the access standards established in 2019.

DATES: VA will hold the public meeting virtually on December 1, 2021. The meeting will start at 8:30 a.m. Eastern Time (ET) and conclude at or before 4:30 p.m. ET.

ADDRESSES: The meeting will be held virtually and recorded on the Adobe Connect platform. Attendance will be limited to 750 individuals. Advanced registration for a maximum capacity of 30 individuals and groups who wish to offer oral comments, testimonies, and/or technical remarks is required (see registration instructions below). For listening purposes only (lines will be muted), the meeting will be available and can be accessed at the following web link: https://vacctraining.adobeconnect.com/public-meeting-for-va-health-care-access-standards/.

VA also published a request for information (RFI) regarding health care access standards on November 4, 2021. Per the RFI, please submit all written comments no later than December 6, 2021. Written comments may be submitted through http://www.regulations.gov. Comments should indicate that they are submitted in response to “Notice of Request for Information Regarding Health Care Access Standards.” During the comment period, comments may be viewed online through the Federal Docket Management System at www.regulations.gov.

FOR FURTHER INFORMATION CONTACT: Natalie Frey, Management Analyst, Office of the Assistant Under Secretary for Health for Community Care, Veterans Health Administration, Department of Veterans Affairs, 810 Vermont Avenue NW, Washington, DC 20420; telephone: 720-429-9171 (this is not a toll-free number).

SUPPLEMENTARY INFORMATION: The John S. McCain III, Daniel K. Akaka, and Samuel R. Johnson VA Maintaining Internal Systems and Strengthening Integrated Outside Networks Act of 2018 (MISSION Act), Public Law 115-182, (the VA MISSION Act) added section 1703B to title 38, United States Code (U.S.C.), which required VA to establish access standards for furnishing hospital care, medical services, or extended care services to covered veterans under the Veterans Community Care Program. VA established these access standards through rulemaking on June 6, 2019, at 38 CFR 17.4040. Section 1703B(c) specifically requires VA to consult with all pertinent Federal, private sector, and other nongovernmental entities in establishing access standards. Section 1703B(e) requires VA, not later than 3 years after the date on which VA establishes access standards, and not less frequently than once every 3 years thereafter, to conduct a review of the established access standards and submit to the appropriate committees of Congress a report on the findings and any modification to the access standards. In reviewing these access standards, VA is choosing to consult with pertinent Federal, private sector, and non-governmental entities. This public meeting serves as one of the means for VA to consult with these entities. As noted above, VA has published an RFI in the Federal Register to provide these entities another opportunity to provide additional information. This RFI can be found at www.regulations.gov under the title “Notice of Request for Information Regarding Health Care Access Standards.” VA will use the statements and testimonials presented at the public meeting to help review the access standards established in June 2019. VA will then submit a report, in June 2022, as required by section 1703B(e)(2).

Registration: Overall attendance in this meeting is limited to 750 individuals and overall capacity for those providing oral comments, testimonies, and/or technical remarks will be limited to 30 individuals. Individuals wanting to offer oral comments, testimonies, and/or technical remarks must request registration by emailing Natalie Frey at Natalie.Frey@va.gov by November 22, 2021. A message confirming that the request has been received will be sent within 2 business days, and individuals will be notified via email by November 26, 2021, confirming their registration and attendance. VA has the right to refuse registration for providing oral comments, testimonies, and/or technical remarks once the maximum capacity of 30 individuals has been reached.

Individual Registration: VA encourages individual registrations for those not affiliated with or representing a group, association, or organization.

Group Registration: Identification of the name of the group, association, or organization should be indicated in your registration request. Due to the meeting's maximum capacity for those providing oral comments, testimonies, and/or technical remarks at 30 individuals, VA may limit the number of registrants from a single group to two individuals representing the same group to allow receipt of comments, testimonies, and/or technical remarks from a broader, more diverse group of stakeholders. Efforts will be made to accommodate all registrants who wish to attend. However, VA will give priority to pertinent Federal, private sector, and non-governmental entities who request registration before November 22, 2021, 4:00 p.m. ET. Please provide the names of people your organization would like to attend, and VA will accommodate as capacity allows; organizations should list names in the order of importance of their attendance to ensure that VA allows admission for the preferred representatives. The length of time allotted for attendees to provide oral comments, testimonies, and/or technical remarks during the meeting may be subject to the number of attendees and to ensure ample time is allotted to those registered attendees. There will be no opportunity for audio-visual presentations during the meeting. Written comments will be accepted by those registered (see above instructions for submitting written comments).

Audio (for listening purposes only): Attending the live audio of the meeting is limited to the first 750 participants on a first-come, first-served basis. Advance registration is not required. Audio attendees will not be allowed to offer oral comments, testimonies, and/or technical remarks, as the audio line will be muted. Written comments will be accepted from those participating via audio (see above instructions for submitting written comments). Please note this meeting will be recorded.

Note: VA will conduct the public meeting informally, and technical rules of evidence will not apply. VA will arrange for written minutes of the meeting to be posted in the docket of the RFI. Should it be necessary to cancel the meeting due to an emergency, VA will take available measures to notify registered participants.

Agenda

08:30-12:00 Morning Public Meeting Session

12:00-13:00 Lunch Break

13:00-16:30 Afternoon Public Meeting Session

16:30 Adjourn

Public Meeting Topics

VA requests information that will assist in reviewing the access standards as required by section 1703B. This includes information regarding access standards, including but not limited to the following: Information with regard to health plans on the use of access standards for the design of health plan provider networks; referrals from network providers to out-of-network providers; the appeals process for exemptions from benefit limits to out-of-network providers; and the measurement of performance against Federal or state regulatory standards. Regarding health systems, VA requests information from the public including, but not limited to the following: The existence of standards for appointment wait times; the use of travel distance for establishing service areas; the development or use of guidelines to refer patients to out-of-system providers; the utilization of virtual health services; and the measurement of performance against Federal or state regulatory standards. VA's specific requests for information are as follows:

1. Do health plans use internal access standards for the design of provider networks and the application of in-network/out-of-network benefits that are more stringent than regulatory standards (e.g., time or distance of travel, appointment wait times, provider/member ratios)? If so, what are these internal standards? Has the Coronavirus Disease 2019 (COVID-19) pandemic affected established access standards? How does the health plan measure performance against regulatory and internal access standards? How does the health plan respond to findings when access standards are not being met? Are current regulatory access standards cost effective while maintaining quality standards? Do health plans have a process to handle routine requests from members or to refer providers for exemptions to benefit limits when members seek out of network care or a lower tier provider?

2. Do health plans allow for appeals by providers or members to request exemptions from benefit limits related to out of network care or care by a lower tier provider? Is external review allowed for such appeals?

3. What are health plan practices regarding internal, regulatory, and/or accreditation standards for appointment wait times, including variance by specialty or type of service? How does the health plan use travel distance or time and/or provider-to-population ratios in deciding which geographic areas to consider as primary or secondary service areas? How do health plans use financial modeling/impact to inform established access standards?

4. What virtual health services (e.g., telehealth and telephonic) do health systems provide? Are virtual health services used to ensure compliance with established access standards?

5. Are clinicians within the health system given guidelines or rules on when to refer patients to out-of-system providers? For example, are clinicians encouraged to refer out of system if in-system wait times are longer than standard, travel time or distance to an in-system provider is too long, the patient's ability to travel is compromised, or the frequency of treatment makes travel to an in-network provider difficult?

6. What are veterans' experiences with and feedback on the VA access standards established in 2019?

Signing Authority

Denis McDonough, Secretary of Veterans Affairs, approved this document on October 29, 2021, and authorized the undersigned to sign and submit the document to the Office of the Federal Register for publication electronically as an official document of the Department of Veterans Affairs.

Consuela Benjamin,
Regulations Development Coordinator, Office of Regulation Policy & Management, Office of General Counsel, Department of Veterans Affairs.

[FR Doc. 2021-24571 Filed 11-12-21; 8:45 am]

BILLING CODE 8320-01-P